NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Pub. L. 104-13. This is the second notice for public comment; the first was published in the Federal Register at 71 FR 52348, and no comments were received. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725 17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Title of Collection: Model Institutions for Excellence Graduates' Survey.

OMB Approval Number: 3145-NEW.

Expiration Date of Approval: Not applicable.

Type of Request: Intent to seek approval to establish an information collection for three years.

Proposed Project: The Division of Human Resource Development (EHR/HRD) of the National Science Foundation (NSF) has requested impact information on the Model Institutions for Excellence (MIE) Program. Jointly funded by NSF and the National Aeronautics and Space Administration (NASA), the MIE Program funded eight minority-service undergraduate institutions to promote underrepresented minority participation in the fields of science, technology, engineering and mathematics (STEM). Now NSF seeks follow-up information on program graduates to determine whether or not they have continued their education in STEM graduate programs and/or STEM employment, and how the MIE program influenced their decisions with respect to graduate school and employment. NSF proposes a one-time on-line survey of the 931 MIE students who received bachelor's degrees in a STEM field from one of the MIE colleges between 2002 through 2005.

Estimate of Burden: The Foundation estimates that, on average, 30 minutes per respondent will be required to complete the survey, for a total of 465.5 hours for all respondents. Respondents from the eight institutions that received NSF MIE support will complete this survey once.

Respondents: STEM graduates from MIE programs.

Estimated Number of Responses: 931.

Estimated Total Annual Burden on Respondents: 465.5 hours.

Dated: November 7, 2006.
Suzanne Plimpton,
Reports Clearance Officer, National Science Foundation.

[FR Doc. E6-19103 Filed 11-9-06; 8:45 am]

BILLING CODE 7555-01-P